DEPARTMENT OF TRANSPORTATION

Federal Transit Administration

Preparation of a Supplemental Draft Environmental Impact Statement for Proposed Transit Improvements in the Eastside Transit Corridor Phase 2, Eastern Portion of Los Angeles County, California

AGENCY: Federal Transit Administration, DOT.

ACTION: Notice of intent to prepare a Supplemental Draft Environmental Impact Statement.

SUMMARY: The Federal Transit Administration (FTA) and the Los Angeles County Metropolitan Transportation Authority (Metro) issue this Notice of Intent (NOI) to prepare a Supplemental Draft Environmental Impact Statement (EIS) for the Eastside Transit Corridor Phase 2 Project (Project) pursuant to the National Environmental Policy Act (NEPA).

The purpose of this notice is to alert interested parties regarding the intent to prepare the Supplemental Draft EIS, to provide information on the nature of the proposed Project, potential minimal operable segments, and possible alternatives, and to invite public participation in the EIS process. With this notice, FTA and Metro invite public comments on the scope of the Supplemental Draft EIS and announce public scoping meetings that will be conducted. Consistent with Executive Order 11988: Floodplain Management and Executive Order 11990: Protection of Wetlands, this NOI also serves as a notice to the public that one or more of the alternatives under consideration may affect floodplains and/or wetlands.

DATES: Written comments on the scope of the Supplemental Draft EIS, including the project's purpose and need, the alternatives to be considered, the impacts to be evaluated, and the methodologies to be used in the evaluations should be sent to Metro on or before July 15, 2019. An interagency scoping meeting will be held on June 10, 2019 at 3:00 p.m.-5:00 p.m. at Metro Headquarters One Gateway Plaza, Los Angeles, CA 90012, Gateway Plaza Conference Room, 3rd floor. See ADDRESSES below for the address to which written public comments may be sent. Public scoping meetings to accept comments on the scope of the Supplemental Draft EIS will be held on the following dates:

• Thursday, June 13, 2019 6:00 p.m.-8:00 p.m., Whittier Community Center, 7630 Washington Avenue, Whittier, CA 90602

• Monday, June 17, 2019 6:00 p.m.-8:00 p.m., Commerce Senior Citizens Center, 2555 Commerce Way, Commerce, CA 90040

• Wednesday, June 19, 2019 6:00 p.m.-8:00 p.m., 4th Street New Primary Center, 469 Amalia Avenue, Los Angeles, CA 90022

• Saturday, June 22, 2019, 10:00 a.m.-12:00 p.m., South El Monte Community Center, 1530 Central Avenue, South El Monte, CA 91733

• Monday, June 24, 2019, 6:00 p.m.-8:00 p.m., Quiet Cannon Banquet Center, 901 Via San Clemente, Montebello, CA 90640.

• Wednesday, June 26, 2019, 6:00 p.m.-8:00 p.m., Pio Pico Women's Club, 9214 Mines Avenue, Pico Rivera, CA 90660

The meeting facilities are accessible to persons with disabilities. Individuals who require special assistance, such as a sign language interpreter, to participate in the scoping meeting or scoping materials in alternate formats may contact Ms. Lillian De Loza Gutierrez, Community Relations Manager, Metro, at (213) 922-7479, or delozagutierrezl@Metro.net at least 72 hours prior to the meeting. Scoping materials will be available at the scoping meetings and on the Project website (https://www.Metro.net/projects/eastside_phase2/).

ADDRESSES: Comments will be accepted at the public scoping meetings or they may be sent via mail to Ms. Jenny Cristales-Cevallos, Senior Manager, Los Angeles County Metropolitan Transportation Authority, One Gateway Plaza, Mail Stop 99-22-6, Los Angeles, CA 90012, or via email at cristalescevallosj@Metro.net. The locations of the scoping meetings are given above under DATES.

FOR FURTHER INFORMATION CONTACT: Ms. Mary Nguyen, Environmental Protection Specialist, Federal Transit Administration, 888 South Figueroa Street, Suite 440, Los Angeles, CA 90017, phone (213) 202-3960, email Mary.Nguyen@dot.gov.

SUPPLEMENTARY INFORMATION: A Draft EIS was circulated for public review on August 22, 2014. Since that time, changes to the alternatives have occurred and additional studies have been conducted. Therefore, a Supplemental Draft EIS will be prepared in accordance the requirements of NEPA and its implementing regulations and 23 Code of Federal Regulations (CFR) 771.130. Metro will also be preparing a Recirculated Environmental Impact Report (EIR) document jointly with the EIS to comply with the California Environmental Quality Act (CEQA).

The proposed Project would extend the Metro Gold Line, a light rail transit line (LRT), from its current terminus at Atlantic Station in the unincorporated area of East Los Angeles to eastern Los Angeles County. The extension would serve the cities and communities of Commerce, Montebello, Monterey Park, Pico Rivera, Rosemead, Santa Fe Springs, South El Monte, and Whittier, and unincorporated areas of Los Angeles County, which include East Los Angeles and West Whittier-Los Nietos.

The Supplemental Draft EIS will be prepared in accordance with the requirements of NEPA and its implementing regulations. Metro will also use the environmental document, in conjunction with the Recirculated Draft EIR to comply with CEQA.

Scoping

Scoping is the process of determining the scope, focus, and content of an EIS. FTA and Metro invite all interested individuals and organizations, public agencies, and Native American Tribes to comment on the scope of the Supplemental Draft EIS, including the project's purpose and need, the alternatives to be studied, the impacts to be evaluated, and the evaluation methods to be used. Comments should focus on: Alternatives that may be less costly or have less environmental or community impacts while achieving similar transportation objectives and the identification of any significant social, economic, or environmental issues relating to the alternatives.

NEPA “scoping” has specific and limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence. Transit projects may also generate environmental benefits; these should be highlighted as well—the impact statement process should draw attention to positive impacts, not just negative impacts.

Purpose and Need for the Project

The Draft EIS/EIR indicated that the purpose of the Eastside Transit Corridor Phase 2 Project is to improve transit access and mobility by connecting communities of eastern Los Angeles County to Metro's regional transit system. The Draft EIS/EIR indicated that Project would serve the large number of transit-dependent and low-income populations in the project area and increase access to major employment centers, activity centers, and destinations in the project area and Los Angeles County. The Draft EIS/EIR included that the Project also aims to reduce travel times on local and regional transportation networks and offer a convenient and reliable transportation alternative to address increased travel demand and projected employment and population growth in eastern Los Angeles County. This information, in addition to the project Purpose and Need, will be updated as part of the Supplemental Draft EIS.

Mobility problems and potential improvements for this corridor have been well documented in many studies that are available from Metro's Records Management Department, including numerous Metro Red Line planning studies, Eastside Transit Corridor Studies: Re-Evaluation Major Investment Study (2000), the Eastside Transit Corridor Phase 2 Final Alternatives Analysis Report (2009), the Eastside Transit Corridor Phase 2 Alternatives Analysis Addendum (2009), Eastside Transit Corridor Phase 2, Draft EIS/EIR (2014), Eastside Transit Corridor Phase 2, Technical Study (2015), Southern California Association of Governments (SCAG) planning studies, the Metro Rapid Demonstration Project (2000), and in SCAG's Regional Transportation Plan (2004).

Project Location and Environmental Setting

The Eastside Transit Corridor Phase 2 Project is located in eastern Los Angeles County and is generally bounded by Pomona Boulevard and State Route 60 (SR 60) Freeway to the north, Peck Road and Painter Avenue to the east, Olympic and Washington Boulevards to the south, and Atlantic Boulevard to the west. The project area consists of portions of eight jurisdictions, including the cities of Commerce, Montebello, Monterey Park, Pico Rivera, Rosemead, Santa Fe Springs, South El Monte, Whittier and portions of unincorporated areas in Los Angeles County which include East Los Angeles and West Whittier-Los Nietos. A diverse mix of land uses are located within the project area, including single- and multi-family residences, commercial and retail uses, industrial development, parks and recreational uses including the Whittier Narrows Recreation Center, health and medical uses, educational institutions, flood control facilities, and vacant land.

The Project would extend the existing Metro Gold Line from 6.9 to approximately 16 miles, depending on the alternative, from its current terminus at Atlantic Station in the unincorporated area of East Los Angeles to eastern Los Angeles County. It would traverse densely populated, low-income, and heavily transit-dependent communities with major activity centers within the Gateway Cities and San Gabriel Valley subregions of Los Angeles County.

Alternatives

The project Alternatives Analysis (AA) was initiated in 2007 wherein 47 alternatives were evaluated. In January 2009, the Metro Board approved the AA and identified two build alternatives to be carried forward for environmental review. The project is identified in Metro's 2009 Long-Range Transportation Plan, as amended, and is a transit project funded by local tax measures, Measure R (approved by voters in November 2008) and Measure M (approved by voters in November 2016).

A Notice of Intent to prepare a Draft EIS/EIR was issued in 2010. The Draft EIS/EIR analyzed the two build alternatives—State Route 60 (SR 60) and Washington Boulevard—in addition to the No Build and Transportation Systems Management (TSM) Alternatives. To address technical issues regarding proximity to the Operating Industries, Inc. (OII) Superfund site and in close coordination with the United States Environmental Protection Agency (EPA), the SR 60 North Side Design Variation (SR 60 NSDV) was added as a design variation. A total of 24 agencies accepted the invitation to become a Participating Agency and EPA, United States Army Corps of Engineers (USACE), and Caltrans (as assigned by the Federal Highway Administration [FHWA]) requested to be Cooperating Agencies. Outreach efforts to agencies affiliated with the project included agency scoping meetings, participation in the Technical Advisory Committee (TAC), and 37 individual agency coordination meetings with EPA, USACE, Caltrans, Southern California Edison (SCE), and Union Pacific Railroad. As part of the outreach program during the AA and Draft EIS/EIR phases, Metro also held over 300 meetings with a wide array of stakeholder groups.

The Draft EIS/EIR was released on August 22, 2014 for a public comment period of 60 days. In November 2014, the Metro Board approved carrying forward two build alternatives for further study: The SR 60 NSDV, referred to herein as the SR 60 Alternative, and the Washington Boulevard Alternative. Based on the volume and scope of comments received on the Draft EIS/EIR, the Board deferred the selection of a Locally Preferred Alternative (LPA) and determined that additional technical investigation, a Post Draft EIS/EIR Technical Study, would be needed to address major areas of concern raised by Cooperating Agencies, corridor cities and stakeholders for both build alternatives. The Metro Board also eliminated the Garfield Avenue aerial segment of the Washington Boulevard Alternative and directed staff to carry out additional technical work, including identifying a new north-south alignment to connect to the Washington Boulevard Alternative, and explore the feasibility of operating both the SR 60 and Washington Boulevard Alternatives.

Extensive coordination with Caltrans, EPA, USACE, CDFW and SCE occurred on the design of the SR 60 Alternative to address these agencies' respective comments on the Draft EIS/EIR throughout the technical investigation process. Some of the issues discussed with resource agencies throughout the technical study included: Addressing concerns related to the former OII Superfund site; minimizing impacts to adjacent developments such as the MarketPlace in Monterey Park; minimizing potential impacts to the ability to add high-occupancy vehicle (HOV) lanes to the SR 60 Freeway; avoiding impacts to the on and off-ramps at Paramount Boulevard; mitigating conflicts with transmission lines; and preserving the ability to develop a station and park and ride structure on Santa Anita Avenue.

The route planning process for the Washington Boulevard Alternative started with 27 potential connection options to Washington Boulevard. These route options were evaluated based on several factors including physical constraints, ridership, cost, travel time, access to major activity centers, economic development opportunities, transit-oriented communities potential, and consistency with community goals. Three north-south connection options were shared at community meetings held in March 2016, June 2016, and February 2017. The community provided extensive feedback on the Washington Boulevard Alternative north-south connection options. The feedback was instrumental in confirming Metro's understanding of key issues for each routing concept and in focusing the conceptual design studies. Based on the technical analysis, design refinements and feedback received from the community and key stakeholders, the Atlantic Boulevard below-grade option was recommended for Board approval as part of the new Washington Boulevard Alternative

In May 2017, the Metro Board received the findings of the Post Draft EIS/EIR Technical Study Report and decided to advance the No Build Alternative and the following build alternatives for environmental review:

• SR 60 Alternative (previously referred to as the SR 60 NSDV Alternative);

• Washington Boulevard Alternative with the Atlantic Boulevard below-grade option (referred to as the Washington Boulevard Alternative); and

• Combined Alternative, defined as full build out of the SR 60 and Washington Boulevard Alternatives.

The Post Draft EIS/EIR Technical Study Report may be found on the Eastside Transit Corridor Phase 2 Project webpage at: https://www.Metro.net/projects/eastside_phase2/).

Each build alternative proposes to develop an LRT facility with four to 10 stations, depending on the alternative, and identify transit-oriented community land use concepts and first/last mile pedestrian/bicycle connectivity opportunities associated with the proposed stations. The Project will also consider the development of minimal operable segments and ancillary facilities. A minimal operable segment is construction of a segment of the LRT route under a build alternative, which would be able to operate both as a stand-alone system and also include a maintenance and storage facility. Stakeholder coordination, design refinement, and impact assessment of the Project are ongoing. As a result, there will continue to be Project design iteration. As such, it is anticipated that the Supplemental Draft EIS document may include, but is not limited to, variations to station number and locations; options for vertical alignments; options for parking facilities; specific alignment refinements; ancillary improvements; and leveraged improvements in collaboration with Metro's local partners and betterments to address these issues. Therefore, interested parties are advised to stay informed and engaged with the numerous Project engagement and communication channels via the project website below.

No-Build Alternative: The No-Build Alternative would maintain existing transit service through the year 2042. No new transportation infrastructure would be built within the project area aside from projects currently under construction or funded for construction and operation by 2042 by Measure R or the recently approved Measure M sales tax. This alternative will include the highway and transit projects in the current Metro Long Range Transportation Plan and the 2035 SCAG Regional Transportation Plan. Potential modifications to the Metro bus network resulting from the Metro NextGen Bus Study and other transit planning efforts would be included.

SR 60 Alternative (previously known as the SR 60 NSDV Alternative): This build alternative, as evaluated in the Draft EIS/EIR, would extend the existing Metro Gold Line from the Atlantic Station to the city of South El Monte. Primarily, it is an aerial alignment that includes four aerial stations as described in the 2014 Draft EIS/EIR. Refinements to station locations or new stations may be considered. The SR 60 Alternative alignment would be located primarily along the southern side of SR 60 Freeway right-of-way (ROW), with the exception of a segment that passes near the OII Superfund Site in Monterey Park. To avoid potential impacts to the OII Site, the SR 60 Alternative alignment would transition to the north side of the SR 60 Freeway, approximately west of Greenwood Avenue, continue east within the Caltrans ROW, and then return to the south side of SR 60 Freeway, near Paramount Boulevard, where it would continue for the remainder of the alignment until its terminus in the City of South El Monte.

Washington Boulevard Alternative: This build alternative would extend the Metro Gold Line from the existing Atlantic Station in East Los Angeles to the City of Whittier. This Alternative includes six stations. Refinements to station locations or new stations may be considered. The configuration of the Alternative would vary, as it is proposed to transition from underground to aerial to at-grade along various portions of the alignment.

From the existing Atlantic Station, the alignment would transition from at-grade west of Woods Avenue to below-grade. A design option may include changing the existing Atlantic Station to a below-grade station. The alignment would continue below-grade roughly following Atlantic Boulevard to Washington Boulevard. The alignment would remain at-grade along Washington Boulevard until just west of Lambert Road. Design options for potential aerial configurations along Washington Boulevard are also under consideration.

Combined Alternative: The Combined Alternative involves construction and operation of both the SR 60 and Washington Boulevard Alternatives and would require infrastructure and operational elements that would otherwise not be required if only one of the alternatives was operated as a “stand alone” line.

Stations, parking, minimal operating segments, ancillary facilities such as a maintenance and storage facility/job training center, traction power substations, and grade separation structures, tail tracks and storage tracks, track sidings and crossovers, track signalization, communication facilities, along the Project alignment would be part of each LRT alternative.

Probable Effects

The purpose of this EIS/EIR process is to study, in a public setting, the effects of the proposed project and its alternatives on the physical, human, and natural environment. The FTA and Metro will evaluate all significant environmental, social, and economic impacts of the construction and operation of the proposed project. The probable impacts will be determined as a part of project scoping. Unless further screening illuminates areas of possible impact, resource areas will be limited to those uncovered during scoping. Measures to avoid, minimize, and mitigate adverse impacts will also be identified and evaluated. Key environmental factors to be addressed include:

• Air Quality;

• Climate Change and Greenhouse Gases;

• Community & Neighborhood Impacts;

• Construction Impacts;

• Cumulative Impacts;

• Economic & Fiscal Impacts;

• Ecosystems/Biological Resources;

• Energy;

• Environmental Justice;

• Geotechnical/Subsurface/Seismic/Hazardous Materials;

• Growth Inducing Impacts;

• Historic, Archeological, Tribal Cultural Resources, and Paleontological Impacts;

• Land Use & Planning;

• Noise & Vibration;

• Parklands and Community Facilities;

• Real Estate & Acquisitions;

• Safety & Security;

• Transportation;

• Water Resources & Hydrology; and

• Visual & Aesthetics.

FTA Procedures

The regulations implementing NEPA require that FTA and Metro do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. In 2010, three agencies were asked and have accepted to be cooperating agencies: EPA, USACE, and Caltrans, as assigned by FHWA. A total of 24 agencies accepted the invitation to become a participating agency. An update to participating and cooperating agencies, with scoping materials appended, was sent to Federal and non-Federal agencies and Native American tribes that may have an interest in the proposed project. Any Federal or non-Federal agency or Native American tribe interested in the proposed project that did not receive an invitation to become a participating agency should notify at the earliest opportunity the Project Manager, Ms. Jenny Cristales-Cevallos, Senior Manager, Los Angeles County Metropolitan Transportation Authority, One Gateway Plaza, Mail Stop 99-22-6, Los Angeles, CA 90012 by mail, or via email at cristalescevallosj@Metro.net.

A comprehensive public involvement program and a Coordination Plan for public and interagency involvement will be developed for the project and posted on the Eastside Transit Corridor Phase 2 Project web page: https://www.Metro.net/projects/eastside_phase2/). The public involvement program includes a full range of activities including the project web page, development and distribution of project newsletters, and outreach to local officials, community and civic groups, and the public. Specific activities or events for involvement will be detailed in the public involvement program.

The Supplemental EIS will be prepared in accordance with NEPA and its implementing regulations issued by the Council on Environmental Quality (40 CFR parts 1500-1508) and with the FTA/FHWA/Federal Railroad Administration regulations “Environmental Impact and Related Procedures” (23 CFR part 771). FTA will comply with all Federal environmental laws, regulations, and executive orders applicable to the proposed project during the environmental review process to the maximum extent practicable. These requirements include, but are not limited to, cooperation and consultation with the Secretary of the Interior and Administrator of EPA and compliance with NEPA provisions of Federal transit laws (49 U.S.C. 5323(c)); the project-level air quality conformity regulations of EPA (40 CFR part 93); the Section 404(b)(1) guidelines of EPA (40 CFR part 230); the regulations implementing Section 106 of the National Historic Preservation Act (36 CFR part 800); the regulations implementing Section 7 of the Endangered Species Act (50 CFR part 402); Section 4(f) of the Department of Transportation Act (23 CFR 774 and 49 U.S.C. 303); and Executive Orders 12898 on environmental justice, 11988 on floodplain management, and 11990 on wetlands. FTA is considering combining the Final EIS and the Record of Decision pursuant to 23 U.S.C. 139(n)(2).

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of the environmental document is received before the document is printed, FTA and its project sponsors will distribute only electronic copies of the environmental document. At a minimum, a complete printed set of the environmental document will be available for review at the project sponsor's offices; an electronic copy of the complete environmental document and scoping materials will be available on the project website at https://www.Metro.net/projects/eastside_phase2/.

Edward Carranza, Jr.,
Deputy Regional Administrator, Region IX, Federal Transit Administration.

[FR Doc. 2019-11089 Filed 5-28-19; 8:45 am]

BILLING CODE P